SECURITIES AND EXCHANGE COMMISSION

Proposed Collection; Comment Request

Upon Written Request, Copies Available From: U.S. Securities and Exchange Commission, Office of Investor Education and Advocacy, Washington, DC 20549-0213.

Extension:

Rule 17Ad-17; OMB Control No. 3235-0469; SEC File No. 270-412.

Notice is hereby given that pursuant to the Paperwork Reduction Act of 1995 (44 U.S.C. 3501 et seq.), the Securities and Exchange Commission (“Commission”) is soliciting comments on the collection of information summarized below. The Commission plans to submit this existing collection of information to the Office of Management and Budget for extension and approval.

• Rule 17Ad-17 Transfer Agents' Obligation to Search for Lost Securityholders.

• Rule 17Ad-17 Brokers and Dealers' Obligation to Search for Lost Securityholders.

• Rule 17Ad-17 Paying Agents' Obligation to Notify Missing Securityholders.

Rule 17Ad-17 (17 CFR 240.17Ad-17) requires approximately 508 registered transfer agents and approximately 5,063 broker-dealers to conduct searches using third party database vendors to attempt to locate lost securityholders. These recordkeeping requirements assist the Commission and other regulatory agencies with monitoring transfer agents and ensuring compliance with the rule.

The staff estimates that the average number of hours necessary for each transfer agent to comply with Rule 17Ad-17 is ten hours annually. The total burden is approximately 5,080 hours annually for all transfer agents (508 transfer agents times 10 hours). The cost of compliance for each individual transfer agent depends on the number of lost securityholder accounts for which it is responsible. Based on information received from transfer agents, we estimate that the annual cost industry-wide for transfer agents is $5.08 million (5,080 hours times $100). The staff estimates that the average number of hours necessary for each broker and dealer to comply with Rule 17Ad-17 is 98.8 hours annually (500,000 searches divided by 5,063 brokers and dealers). The cost of compliance for each broker and dealer will depend on the number of lost securityholder accounts for which it is responsible. The staff estimates that the annual cost industry-wide for brokers and dealers is $9.88 million (98.8 hours times $100).

The staff estimates that the average number of hours necessary for each paying agent to comply with Rule 17Ad-17 is 50 hours annually. The total burden is approximately 5,000 hours annually for all paying agents (1,000 paying agents times 50 hours). The cost of compliance for each individual paying agent depends on the number of missing securityholder accounts for which it is responsible. The staff estimates that the annual cost industry-wide for paying agents is $500,000 (5,000 hours times $100).

Written comments are invited on: (a) Whether the proposed collection of information is necessary for the proper performance of the functions of the agency, including whether the information shall have practical utility; (b) the accuracy of the agency's estimates of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Comments should be directed to: Thomas Bayer, Director/Chief Information Officer, Securities and Exchange Commission, c/o Remi Pavlik-Simon, 6432 General Green Way, Alexandria, Virginia 22312 or send an e-mail to: PRA_Mailbox@sec.gov.

Dated: July 28, 2011.
Elizabeth M. Murphy,
Secretary.

[FR Doc. 2011-19531 Filed 8-1-11; 8:45 am]

BILLING CODE 8011-01-P